DEPARTMENT OF COMMERCE

International Trade Administration

[A-570-894 and A-570-895]

Certain Tissue Paper Products and Certain Crepe Paper Products From the People's Republic of China: Postponement of the Preliminary Determinations of the Antidumping Duty Investigations

AGENCY: Import Administration, International Trade Administration, Department of Commerce.

ACTION: Notice of postponement of the preliminary determinations of antidumping duty investigations.

EFFECTIVE DATE: July 12, 2004.

SUMMARY: The Department of Commerce (“the Department”) is postponing the preliminary determinations in the investigations of certain tissue paper products and certain crepe paper products from the People's Republic of China. These investigations cover the period July 1, 2003, through December 31, 2003.

FOR FURTHER INFORMATION CONTACT: Michael Ferrier, Rachel Kreissl, or Kit Rudd, AD/CVD Enforcement, Group III, Office 9, Import Administration, International Trade Administration, U.S. Department of Commerce, 14th Street and Constitution Avenue, NW., Washington DC 20230; telephone: (202) 482-2667, (202) 482-0409 and (202) 482-1385 respectively.

Background

On March 15, 2004, the Department published a notice of initiation of investigations of certain tissue paper products and certain crepe paper products from the People's Republic of China covering the period July 1, 2003, through December 30, 2003. See Notice of Initiation of Antidumping Duty Investigations: Certain Tissue Paper Products and Certain Crepe Paper Products from the People's Republic of China: 69 FR 12128 (March 15, 2004). The notice of initiation stated that the Department would issue preliminary determinations no later than 140 days after the date of initiation. See Id. Currently, the preliminary determinations in these investigations are due on July 26, 2004. See 19 CFR 351.205(e).

Postponement of Preliminary Determinations

Under section 733(c)(1)(A) of the Tariff Act of 1930, as amended (“the Act”), the petitioner may request a postponement from 140 days to not later than 190 days after the initiation of an investigation. A written request, including reasons for the postponement, must be submitted to the Department at least 25 days prior to the preliminary determination.

The Department finds that the petitioners in the investigations submitted a timely request for postponement of the preliminary determinations on July 1, 2004, in accordance with section 773(c)(1)(A) of the Act. Further, the petitioners stated the following reasons for requesting a postponement of the preliminary determinations in the investigations: to allow the Department time to fully analyze and consider the information and arguments presented by the parties to the investigations and to issue and receive supplemental questionnaires and responses in the preliminary phase of the proceedings.

Pursuant to section 733(c)(1)(A) of the Act, the Department has determined that additional time is necessary to allow complete analysis and consideration of information and arguments presented by parties and to permit issuance of supplemental questionnaires and responses in the proceedings. Therefore, the Department is partially extending the preliminary determination date for the investigations until August 25, 2004.

This notice is issued and published pursuant to section 733(c)(2) of the Act and 19 CFR 351.205(f).

Dated: July 6, 2004.
Jeffrey A. May,
Deputy Assistant Secretary for Import Administration, Group I.

[FR Doc. 04-15729 Filed 7-9-04; 8:45 am]

BILLING CODE 3510-DS-P